DEPARTMENT OF COMMERCE

National Oceanic and Atmospheric Administration

RIN 0648-XF625

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Teams will meet September 12 through September 15, 2017.

DATES: The meeting will be held on Tuesday, September 12 to Friday, September 15, 2017, from 9 a.m. to 5 p.m.

ADDRESSES: The meeting will be held at the Alaska Fishery Science Center Traynor Room 2076 and NMML Room 2079, 7600 Sand Point Way NE., Building 4, Seattle, WA 98115.

Council address: North Pacific Fishery Management Council, 605 W. 4th Ave., Suite 306, Anchorage, AK 99501-2252; telephone: (907) 271-2809.

FOR FURTHER INFORMATION CONTACT: Diana Stram or Jim Armstrong, Council staff; telephone: (907) 271-2809.

SUPPLEMENTARY INFORMATION:

Agenda

Tuesday, September 12 to Friday September 15, 2017

The Plan Teams will review the preliminary stock assessments for Groundfish and receive reports including but not limited to: 2017 Survey Estimates, CIE Reviews for GOA Pollock and BSAI Flatfish, and the Economic Stock Assessment and Fishery Evaluation (SAFE).

The Agenda is subject to change, and the latest version will be posted at http://www.npfmc.org.

Special Accommodations

These meetings are physically accessible to people with disabilities. Requests for sign language interpretation or other auxiliary aids should be directed to Shannon Gleason at (907) 271-2809 at least 7 working days prior to the meeting date.

Dated: August 22, 2017.
Tracey L. Thompson,
Acting Deputy Director, Office of Sustainable Fisheries, National Marine Fisheries Service.

[FR Doc. 2017-18059 Filed 8-24-17; 8:45 am]

BILLING CODE 3510-22-P